DEPARTMENT OF THE INTERIOR

Bureau of Land Management

[LLNVS01000.L51010000.ER0000.LVRWF1906190.19X; N-84631; MO#4500141706]

Notice of Availability for the Proposed Resource Management Plan Amendment and Final Environmental Impact Statement for the Gemini Solar Project in Clark County, NV

AGENCY: Bureau of Land Management, Interior.

ACTION: Notice of availability.

SUMMARY: In accordance with the National Environmental Policy Act of 1969, as amended (NEPA), and the Federal Land Policy and Management Act of 1976, as amended, the Bureau of Land Management (BLM) Las Vegas Field Office has prepared a Proposed Resource Management Plan (RMP) Amendment and Final Environmental Impact Statement (EIS) for the Gemini Solar Project and by this notice is announcing the opening of the protest period.

DATES: This notice initiates the protest period for proposed plan amendment. In accordance with CFR 1610.5-2 protests may be submitted in writing until January 27, 2020. Any person who participated in the planning process and has an interest which is or may be adversely affected by the approval or amendment of a RMP may protest such approval or amendment. A protest may raise only those issues which were submitted for the record during the planning process. The protest shall be in writing and shall be filed with the Director. The protest shall contain: (i) The name, mailing address, telephone number and interest of the person filing the protest; (ii) A statement of the issue or issues being protested; (iii) A statement of the part or parts of the plan or amendment being protested; (iv) A copy of all documents addressing the issue or issues that were submitted during the planning process by the protesting party, or an indication of the date the issue or issues were discussed for the record; and (v) A concise statement explaining why the State Director's decision is believed to be wrong. The BLM will issue a Record of Decision approximately 90 days after the protest period opens which will be announced in a Notice of Availability in the Federal Register.

ADDRESSES: All protests must be in writing and mailed to one of the following addresses:

Regular Mail: Director (210), Attn: Protest Coordinator, P.O. Box 71383, Washington, DC 20024-1383

Overnight Delivery: Director (210), Attn: Protest Coordinator, 20 M Street SE, Room 2134LM, Washington, DC 20003

Electronic protests will not be accepted as valid protests unless the protesting party also provides the original letter by either regular mail or overnight delivery postmarked by the close of the protest period. Under these conditions, the BLM will consider the electronic protest as an advance copy and will afford it full consideration. If you wish to provide the BLM with such advance notification, you can submit your protest through the project's ePlanning page at https://go.usa.gov/xntTQ.

FOR FURTHER INFORMATION CONTACT: Nicholas Pay, Acting Energy & Infrastructure Project Manager, telephone 702-515-5284; address 4701 North Torrey Pines Drive, Las Vegas, Nevada 89130-2301; email blm_nv_sndo_geminisolar@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The applicant, Solar Partners XI, LLC (Arevia) has proposed to construct, operate, maintain and decommission a 690 megawatt photovoltaic solar electric generating facility and associated generation tie-line and access road facilities on approximately 7,100 acres of federal lands administered by the BLM. The proposed solar facility would be located approximately 33 miles northeast of Las Vegas and directly south of the Moapa River Indian Reservation in Clark County, Nevada. The expected life of the project is 30 years.

The Final EIS analyzed the direct, indirect and cumulative environmental impacts of the proposed action and alternatives. The Final EIS analyzed the Proposed Action, the Hybrid (BLM Preferred), All Mowing and the No Action Alternatives. All of the alternatives involve development on approximately 7,100 acres of land; however, each action/alternative differs in how the facility is constructed. The Proposed Action would involve solar development utilizing traditional development methods, which include disk and roll that removes all vegetation in the solar array areas. The Hybrid (BLM Preferred) Alternative would involve solar development utilizing a combination of traditional development methods in solar array areas (on approximately 2,500 acres) and mowing that leaves vegetation and natural land contours in place on the remaining solar array areas (on approximately 4,600 acres). The All Mowing Alternative would involve development of the facility utilizing only mowing in solar array areas. Where mowing is utilized in each alternative, desert tortoise would be reintroduced into the solar array areas after completion of construction, since habitat would remain. The No Action Alternative would be a continuation of existing conditions.

A Notice of Intent (NOI) to prepare an EIS for the proposed Gemini Solar Project was published in the Federal Register on July 13, 2018 (83 FR 32681). The public scoping period closed August 27, 2018. The BLM held two public scoping meetings. The BLM received 34 public scoping comment letters during the 45-day scoping period. The scoping comments focused on biological resources (desert tortoise and threecorner milkvetch); visual resources; recreation and public access; and impacts to the Old Spanish National Historic Trail.

A Notice of Availability (NOA) to prepare RMP Amendment and Draft EIS for the proposed Gemini Solar Project was published in the Federal Register on June 7, 2019 (84 FR 26701) The BLM held two public meetings. The public comment period closed September 5, 2019. The BLM received 114 substantive letters containing 1,147 individual substantive comments during the 90-day public comment period. The comments focused on range of alternatives; Mojave Desert Tortoise; bighorn sheep and migratory birds; threecorner milkvetch, other sensitive plants and native vegetation communities; Old Spanish National Historic Trail; change to Visual Resource Management Class; impacts to recreation; drainage impacts and hydrologic changes, erosion, and dust; and tribal concern. Comments on the Draft RMP Amendment and EIS were considered and incorporated as appropriate into the Proposed RMP Amendment and Final EIS. Public comments did not result in the addition of substantive revisions to the Draft RMP Amendment and EIS that were published in June of 2019. Responses to all comments are located in Appendix L of the Final EIS.

The BLM has utilized and coordinated the NEPA scoping and comment process to help fulfill the public involvement requirements under the National Historic Preservation Act (NHPA) (54 U.S.C. 306108) as provided in 36 CFR 800.2(d)(3.) The information about historic and cultural resources within the area potentially affected by the proposed project has assisted the BLM in identifying and evaluating impacts to such resources in the context of both NEPA and the NHPA.

The BLM has consulted and will continue to consult with Indian tribes on a government-to-government basis in accordance with Executive Order 13175 and other policies. Tribal concerns, including impacts to Indian trust assets and potential impacts to cultural resources have been analyzed in the Final EIS.

Before including your address, phone number, email address, or other personal identifying information in your protest, be advised that your entire protest—including your personal identifying information—may be made publicly available at any time. While you can ask us in your protest to withhold from public review your personal identifying information, we cannot guarantee that we will be able to do so.

The BLM Director will make every attempt to promptly render a decision on each protest. The decision will be in writing and will be sent to the protesting party by certified mail, return receipt requested. The decision of the BLM Director shall be the final decision of the Department of the Interior on each protest. Responses to protest issues will be compiled and formalized in a Director's Protest Resolution Report made available following issuance of the decisions.

Authority: 40 CFR 1506.6, 40 CFR 1506.10.

Jon K. Raby,
Nevada State Director.

[FR Doc. 2019-27904 Filed 12-26-19; 8:45 am]

BILLING CODE P